DEPARTMENT OF COMMERCE

International Trade Administration

Announcement of Changes to Approved International Trade Administration Trade Missions

AGENCY: International Trade Administration, Department of Commerce.

ACTION: Notice.

SUMMARY: The United States Department of Commerce, International Trade Administration (ITA), is announcing changes to two trade missions that are recruited, organized, and implemented by ITA. These missions are:

• Clinical Waste Management Mission to Indonesia and Malaysia—September 11-15, 2023

• Global Diversity Export Initiative (GDEI) Business Mission to South Africa, Ghana, and Optional Stop in Nigeria—August 6-15, 2023

The Clinical Waste Management Trade Mission to Indonesia and Malaysia will not be executive-led. The Global Diversity Export Initiative (GDEI) Business Mission to South Africa, Ghana, and Optional Stop in Nigeria will be executive-led.

Background

On March 18, 2022, the United States Department of Commerce notified the public of Winter 2022 Approved International Trade Administration Trade Missions (87 FR 15374, March 18, 2022), including the Clinical Waste Management Mission to Indonesia and Malaysia originally scheduled for March 6-10, 2023, but postponed to September 11-15, 2023 (87 FR 67441, November 8, 2022). The trade mission will not include an Executive Lead as incorrectly stated in both Federal Register Notices.

On February 15, 2023, the United States Department of Commerce notified the public of an Approved International Trade Administration Trade Mission, the Global Diversity Export Initiative (GDEI) Business Mission to South Africa, Ghana, and Optional Stop in Nigeria (88 FR 9858, February 15, 2023). The trade mission will include an Executive Lead, which was not indicated in the initial Federal Register Notice.

For Further Information Regarding the Clinical Waste Management Mission to Indonesia and Malaysia, Contact:

Tricia McLain, Global Healthcare Team, U.S. Commercial Service, Newark, Ph: +1 973-264-9646, Tricia.McLain@trade.gov.

Evelina Scott, I&A Office of Energy and Environmental Industries, U.S. Department of Commerce | International Trade Administration, Ph: +1-202-603-4765, evelina.scott@trade.gov.

Indonesia

Eric Hsu, Senior Commercial Officer, Jakarta, Indonesia, Ph: +62 (21) 5083 1000, Eric.Hsu@trade.gov.

Elliot Brewer, Indonesia Desk Officer, Global Markets Asia, Washington, DC, Ph: +1 202 430 8025, Elliott.Brewer@trade.gov.

Fidhiza Purisma, Commercial Specialist (Environmental Technology), Ph: +62 (21) 5083 1000, Fidhiza.Purisma@trade.gov.

Pepsi Maryarini, Commercial Specialist (Healthcare), Ph: +62 (21) 5083 1000, Pepsi.Maryarini@trade.gov.

Malaysia

Francis Peters, Senior Commercial Officer, Kuala Lumpur, Malaysia, Ph: +60-3-2168-4869, Francis.Peters@trade.gov.

Krista Barry, Vietnam and Malaysia Desk Officer, Global Markets Asia, Washington, DC, Ph: 202-389-2298, Krista.Barry@trade.gov.

Siau Wei Pung, Senior Commercial Specialist (Environmental Technology), Ph: +60-3-2168-5050 Ext: 5139, SiauWei.Pung@trade.gov.

Bethany Tien, Commercial Specialist (Healthcare), Ph: +60-3-2168-5050 Ext: 4825, Bethany.Tien@trade.gov.

For Further Information Regarding the Global Diversity Export Initiative (GDEI) Business Mission to South Africa, Ghana, and Optional Stop in Nigeria, Contact:

Terri Batch, ITS/GDEI lead, West LA USEAC, (310) 597-3575, Terri.Batch@trade.gov.

Nathalie Scharf, Director, St. Louis USEAC, (314) 432-1500, Nathalie.Scharf@trade.gov.

Cynthia Griffin, RSCO, SSA, +86-138-1197-8435, Cynthia.Griffin@trade.gov.

Mike Bromley, CO, South Africa, +27 11 290 3227, Michael.Bromley@trade.gov.

Gemal Brangman,
Director, ITA Events Management Task Force.

[FR Doc. 2023-08476 Filed 4-20-23; 8:45 am]

BILLING CODE 3510-DR-P